DEPARTMENT OF AGRICULTURE

Office of the Secretary

Request for Nominations of Members for the National Agricultural Research, Extension, Education, and Economics Advisory Board, Specialty Crop Committee, Citrus Disease Subcommittee, and National Genetic Resources Advisory Council

AGENCY: National Agricultural Research, Extension, Education, and Economics Advisory Board, Office of the Secretary, USDA.

ACTION: Solicitation for membership.

SUMMARY: In accordance with the Federal Advisory Committee Act, the U.S. Department of Agriculture (USDA) announces the opening of the solicitation for nominations to fill vacancies on the National Agricultural Research, Extension, Education, and Economics (NAREEE) Advisory Board and its subcommittees. There is one vacancy on the NAREEE Advisory Board; nine vacancies on the National Genetic Resources Advisory Council; three vacancies on the Specialty Crop Committee; and eight vacancies on the Citrus Disease Subcommittee.

DATES: All nomination materials should be submitted in a single, complete package and received or postmarked by April 26, 2019.

ADDRESSES: The nominee's name, resume or CV, completed and signed Form AD-755, and any letters of support must be submitted via one of the following methods: (1) Email (preferred) to nareeeab@ars.usda.gov; (2) By fax to 202-720-6199; or (3) By mail delivery service to: REE Advisory Board Office, U.S. Department of Agriculture, Jamie L. Whitten Building, Room 332-A, 1400 Independence Avenue SW, Washington, DC 20250-2255.

FOR FURTHER INFORMATION CONTACT: Michele Esch, Director, National Agricultural Research, Extension, Education, and Economics Advisory Board, 1400 Independence Avenue SW, Room 332A, The Whitten Building, Washington, DC 20250-2255; telephone: 202-720-3684; fax: 202-720-6199; email: nareeeab@ars.usda.gov. Committee website: www.nareeeab.ree.usda.gov.

SUPPLEMENTARY INFORMATION: Instructions for Nominations: Nominations are solicited from organizations, associations, societies, councils, federations, groups, and companies that represent a wide variety of food and agricultural interests throughout the country.

Nominees may be considered for the NAREEE Board and or a subcommittee and may be considered for more than one category and/or subcommittee dependent on the nominee's qualifications. Each nominee must submit a signed form AD-755, “Advisory Committee Membership Background Information,” which can be obtained from the contact person below or from: https://www.ocio.usda.gov/sites/default/files/docs/2012/AD-755%20-%20Approved%20Master%202015.pdf). A resume or CV should also be submitted. Letters of nomination or support are encouraged. Nomination letters must indicate the specific Board and/or subcommittee AND the category(s) for which the nominee is applying.

Nominations are open to all individuals without regard to race, color, religion, sex, national origin, age, mental or physical handicap, marital status, or sexual orientation. To ensure the recommendation of the Advisory Board takes into account the needs of the diverse groups served by the USDA, membership shall include, to the extent practicable, individuals with demonstrated ability to represent the needs of all racial and ethnic groups, women and men, and persons with disabilities.

Please note, individuals may not serve on more than one USDA Federal Advisory Committee. Individuals appointed to committees to exercise their own individual best judgment on behalf of the government (e.g. as Special Government Employees) are ineligible to serve. All nominees will be carefully reviewed for their expertise, leadership, and relevance. All nominees will be vetted before selection.

Appointments to the NAREEE Advisory Board and its subcommittees will be made by the Secretary of Agriculture.

National Agricultural Research, Extension, Education and Economics Advisory Board

The NAREEE Advisory Board was established in 1996 via Section 1408 of the National Agricultural Research, Extension, and Teaching Policy Act of 1977 (7 U.S.C. 3123) to provide advice to the Secretary of Agriculture and land-grant colleges and universities on top priorities and policies for food and agricultural research, education, extension, and economics. The Farm Security and Rural Investment Act of 2002 reduced the number of members and required the Board to also provide advice to the Committee on Agriculture of the House of Representatives; the Committee on Agriculture, Nutrition, and Forestry of the Senate; the Subcommittee on Agriculture, Rural Development, Food and Drug Administration and Related Agencies of the Committee on Appropriations of the House of Representatives; and the Subcommittee on Agriculture, Rural Development and Related Agencies of the Committee on Appropriations of the Senate. Subsequently, Section 7103 of the Agriculture Improvement Act of 2018 further reduced the number of members to 15 and changed the categories of membership for the advisory board. The new membership categories are:

(1) 3 members representing National Farm or Producer Organizations, which may include members:

a. representing farm cooperatives;

b. who are a food animal commodity producer recommended by a national livestock organization;

c. who are a plant commodity producer recommended by a national crop organization; or

d. who are an aquaculture producer recommended by a national aquaculture organization.

(2) 2 members representing Academic or Research Societies, which may include members representing:

a. national food animal science society;

b. national crop, soil, agronomy, horticulture, plant pathology, or weed science society;

c. national food science organization;

d. national human health association; or

e. national nutritional science society.

(3) 5 members representing Agricultural Research, Extension, and Education, which shall include:

a. 1 member representing the 1862 land-grant colleges and universities.

b. 1 member representing the 1890 land-grant colleges and universities, including Tuskegee University.

c. 1 member representing the 1994 Equity in Education land-grant institution

d. 1 member representing non-land grant colleges of agriculture (NLGCA) institutions or Hispanic-serving institutions.

e. 1 member representing American colleges of veterinary medicine.

(4) 5 members representing Industry, Consumer, or Rural Interests, including members representing:

a. transportation of food and agricultural products to domestic and foreign markets;

b. food retailing and marketing interests;

c. food and fiber processors;

d. rural economic development interests;

e. a national consumer interest group;

f. a national forestry group;

g. a national conservation or natural resource group;

h. a national social science association;

i. private sector organizations involved in international development; or

j. a national association of agricultural economists.

USDA intends to re-appoint the existing members to the NAREEE Advisory Board and fill one vacancy. Nominations for a three-year appointment for one category are being sought. The one available position to be filled is:

(1) Agricultural Research, Extension and Education.

d. 1 member representing non-land grant colleges of agriculture (NLGCA) institutions or Hispanic-serving institutions.

All nominees will be carefully reviewed for their expertise, leadership, and relevance to the vacant category.

National Genetic Resources Advisory Council

The National Genetic Resources Advisory Council was originally established in March, 1992 via section 1634 (7 U.S.C. 5843) of the Food, Agriculture, Conservation and Trade Act of 1990 to formulate recommendations on actions and policies for the collection, maintenance, and utilization of genetic resources; to make recommendations for coordination of genetic resources plans of several domestic and international organizations; and to advise the Secretary of Agriculture and the National Genetic Resources Program, part of the Agricultural Research Service, of new and innovative approaches to genetic resources conservation. It was subsequently re-established in 2012 as a permanent subcommittee of the NAREEE Advisory Board. The Agriculture Improvement Act of 2018 further expanded the responsibilities of the Council to include recommendations on cultivar development. The bill also increased the number of members from 9 to 13 and changed the membership categories of the National Genetic Resources Advisory Council. The new membership categories are:

(1) 6 of the members shall be appointed from scientific disciplines relevant to the National Genetic Resources Program, including agricultural sciences, economics and policy, environmental sciences, natural resource sciences, health sciences, and nutritional sciences.

(2) 3 of the members shall be appointed from the general public and shall include leaders in fields of public policy, community development, trade, international development, law, or management.

(3) 4 of the members shall be appointed from among individuals with expertise in cultivar development and animal breed development.

(4) 4 of the members shall be appointed from among individuals representing:

a. 1862 land-grant colleges and universities;

b. 1890 land-grant colleges and universities;

c. Hispanic-serving institutions; or

d. 1994 Equity in Education land-grant institutions.

The Council currently has 4 members who will be re-appointed by USDA. Nominations are being sought for the following categories:

• three (3) scientific members;

• two (2) general public members; and

• four (4) public cultivar development and animal breed development.

Note: At least one of these new members must also represent an 1862 land-grant college or university; an 1890 land-grant college or university; a Hispanic-serving institution; or a 1994 Equity in Education land-grant university.

Appointed members will serve for two- or four-years in order to properly stagger the term limits. All nominees will be carefully reviewed for their expertise, leadership, and relevance to a category.

Specialty Crop Committee

The Specialty Crop Committee was created as a subcommittee of the NAREEE Advisory Board in accordance with the Specialty Crops Competitiveness Act of 2004 under Title III, Section 303 of Public Law 108-465. The committee was formulated to study the scope and effectiveness of research, extension, and economics programs affecting the specialty crop industry. The legislation defines “specialty crops” as fruits, vegetables, tree nuts, dried fruits and nursery crops (including floriculture). The Agricultural Act of 2014 further expanded the scope of the Specialty Crop Committee to provide advice to the Secretary of Agriculture on the relevancy review process of the Specialty Crop Research Initiative, a grant program of the National Institute of Food and Agriculture.

Members should represent the breadth of the specialty crop industry. Six members of the Specialty Crop Committee represent various disciplines of the specialty crop industry; the remaining members are appointed from the NAREEE Advisory Board. The terms of three members expired on September 30, 2018. The Specialty Crop Committee is soliciting nominations to fill three (3) vacant positions to represent the specialty crop industry. Appointed members will serve for three-years. All nominees will be carefully reviewed for their expertise, leadership, and relevance to a category.

Citrus Disease Subcommittee: The Citrus Disease Subcommittee was established by the Agricultural Act of 2014 (Sec. 7104) as a subcommittee of the NAREEE Advisory Board to advise the Secretary of Agriculture on citrus research, extension, and development needs, engage in regular consultation and collaboration with USDA and other organizations involved in citrus, and provide recommendations for research and extension activities related to citrus disease.

Section 7104 of the Agriculture Improvement Act of 2018 amended the membership of the Citrus Disease Subcommittee to increase the number of members from 9 members to 11. Members of the Citrus Disease Subcommittee must be a producer of citrus with representation from the following States: five members from Arizona or California, five members from Florida, and one member from Texas. The Citrus Disease Subcommittee is soliciting nominations to fill eight (8) vacant positions:

• Three (3) positions representing Florida.

• Four (4) positions representing California or Arizona.

• One (1) position representing Texas.

Appointed members will serve one-, two-, or three-year terms in order to properly stagger term rotation. All nominees will be carefully reviewed for their expertise, leadership, and relevance to a category.

Done at Washington, DC, this day of March 14th, 2019.
Steve Censky,
Deputy Secretary, USDA.

[FR Doc. 2019-05938 Filed 3-27-19; 8:45 am]

BILLING CODE 3410-03-P